DEPARTMENT OF COMMERCE

National Oceanic and Atmospheric Administration

Agency Information Collection Activities; Submission to the Office of Management and Budget for Review and Approval; Comment Request; Southeast Region Vessel Monitoring System (VMS) and Related Requirements

AGENCY: National Oceanic & Atmospheric Administration (NOAA), Commerce.

ACTION: Notice of information collection, request for comment.

SUMMARY: The Department of Commerce, in accordance with the Paperwork Reduction Act of 1995 (PRA), invites the general public and other Federal agencies to comment on proposed, and continuing information collections, which helps us assess the impact of our information collection requirements and minimize the public's reporting burden. The purpose of this notice is to allow for 60 days of public comment preceding submission of the collection to the Office of Management and Budget (OMB).

DATES: To ensure consideration, comments regarding this proposed information collection must be received on or before March 14, 2022.

ADDRESSES: Interested persons are invited to submit written comments to Adrienne Thomas, NOAA PRA Officer, at adrienne.thomas@noaa.gov. Please reference OMB Control Number 0648-0554 in the subject line of your comments. Do not submit confidential business information or otherwise sensitive or protected information.

FOR FURTHER INFORMATION CONTACT: Requests for additional information or specific questions related to collection activities should be directed to Carolyn Sramek, Investigative Support Program Manager, National Marine Fisheries Service (NMFS), Office of Law Enforcement, Southeast Division, 263 13th Avenue South, St. Petersburg, FL 33701, (727) 824-5346, Carolyn.Sramek@noaa.gov.

SUPPLEMENTARY INFORMATION:

I. Abstract

The NMFS, Office of Law Enforcement, Southeast Enforcement Division is submitting this request for an extension of a currently approved information collection.

The Magnuson-Stevens Fishery Conservation and Management Act authorizes the Gulf of Mexico Fishery Management Council (Gulf Council) and South Atlantic Fishery Management Council (South Atlantic Council) to prepare and amend fishery management plans for any fishery in Federal waters under their respective jurisdictions. NMFS and the Gulf Council manage the reef fish fishery in the Gulf of Mexico (Gulf) under the Fishery Management Plan (FMP) for the Reef Fish Resources of the Gulf of Mexico. NMFS and the South Atlantic Council manage the fishery for rock shrimp in the South Atlantic under the FMP for the Shrimp Fishery in the South Atlantic Region. The vessel monitoring system (VMS) regulations for the Gulf reef fish fishery and the South Atlantic rock shrimp fishery may be found at 50 CFR 622.28 and 622.205, respectively.

The FMPs and the implementing regulations contain several specific management areas where fishing is restricted or prohibited to protect habitat or spawning aggregations, or to control fishing pressure. Unlike size, bag, and trip limits, where the catch can be monitored on shore when a vessel returns to port, area restrictions require at-sea enforcement. However, at-sea enforcement of offshore areas is difficult due to the distance from shore and the limited number of patrol vessels, resulting in a need to improve enforceability of area fishing restrictions through remote sensing methods. In addition, all fishing gears are subject to some area fishing restrictions. Because of the sizes of these areas and the distances from shore, the effectiveness of enforcement through over flights and at-sea interception is limited. An electronic VMS allows a more effective means to monitor vessels for intrusions into restricted areas.

The VMS provides effort data and significantly aids in enforcement of areas closed to fishing. All position reports are treated in accordance with NMFS existing guidelines for confidential data. As a condition of authorized fishing for or possession of Gulf reef fish or South Atlantic rock shrimp in or from Federal waters, vessel owners or operators subject to VMS requirements must allow NMFS, the United States Coast Guard, and their authorized officers and designees, access to the vessel's position data obtained from the VMS.

The information collected on the “Vessel Monitoring System Installation and Activation Certification for the Reef Fish Fishery of the Gulf of Mexico” form provides NMFS assurance that vessels are compliant with the requirements to install and activate an approved VMS unit. Information collected on the “Vessel Monitoring System Mobile Transceiver Unit (MTU) Power-Down Exemption Request for Vessels in the Gulf of Mexico Reef Fish Fishery” form provides information that allows NMFS to exempt a vessel from their the VMS reporting requirement under specific criteria.

II. Method of Collection

Information about VMS unit installation and activation and power-down exemption requests are currently collected via paper form; trip declarations and timed position reports are submitted via VMS satellite transmission.

III. Data

OMB Control Number: 0648-0544.

Form Number(s): None.

Type of Review: Regular submission (extension of a current information collection).

Affected Public: Business or other for-profit organizations.

Estimated Number of Respondents: 1,027.

Estimated Time per Response: VMS unit installation, 5 hours; installation and activation checklist, 20 minutes; power-down exemption request, 5 minutes; transmission of fishing activity report, 1 minute; and annual maintenance, 2 hours.

Estimated Total Annual Burden Hours: 2,499 hours.

Estimated Total Annual Cost to Public: $1,466,255 in start-up, transfer, operations, and maintenance costs.

Respondent's Obligation: Submission of the Installation and Activation certification is and mandatory. Transmission of fishing activity report is mandatory. Submission of a Powerdown Exemption Authorization request is required to obtain or retain benefits.

Legal Authority: 16 U.S.C. 1801 et seq.

IV. Request for Comments

We are soliciting public comments to permit the Agency to: (a) Evaluate whether the proposed information collection is necessary for the proper functions of the Agency, including whether the information will have practical utility; (b) Evaluate the accuracy of our estimate of the time and cost burden for this proposed collection, including the validity of the methodology and assumptions used; (c) Evaluate ways to enhance the quality, utility, and clarity of the information to be collected; and (d) Minimize the reporting burden on those who are to respond, including the use of automated collection techniques or other forms of information technology.

Comments that you submit in response to this notice are a matter of public record. We will include or summarize each comment in our request to OMB to approve this information collection. Before including your address, phone number, email address, or other personal identifying information in your comment, you should be aware that your entire comment—including your personal identifying information—may be made publicly available at any time. While you may ask us in your comment to withhold your personal identifying information from public review, we cannot guarantee that we will be able to do so.

Sheleen Dumas,
Department PRA Clearance Officer, Office of the Chief Information Officer, Commerce Department.

[FR Doc. 2022-00405 Filed 1-11-22; 8:45 am]

BILLING CODE 3510-22-P